NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 14, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Marketing Service (N1-136-05-2, 3 items, 3 temporary items). Master files and electronic mail and word processing copies of documents associated with an electronic information system used by schools and institutional food buyers to purchase food from producers and distributors. This schedule authorizes the agency to apply the proposed disposition instructions to any recordkeeping medium.

2. Department of Agriculture, Agricultural Marketing Service (N1-136-05-4, 7 items, 7 temporary items). Inputs, outputs, master files, documentation, and electronic mail and word processing copies associated with an electronic information system used to collect and report on the grading and inspection of processed fruits and vegetables along with related billing data. This schedule authorizes the agency to apply the proposed disposition instructions to any recordkeeping medium.

3. Department of Agriculture, Agricultural Marketing Service (N1-136-06-2, 9 items, 9 temporary items). Inputs, outputs, master files, documentation, and electronic mail and word processing copies associated with an electronic information system used to track results of egg handler inspections performed under the authority of the Egg Products Inspection Act. This schedule authorizes the agency to apply the proposed disposition instructions to any recordkeeping medium.

4. Department of the Air Force, Community College of the Air Force (N1-AFU-04-3, 2 items, 2 temporary items). Master files and electronic mail and word processing copies associated with an electronic information system used to maintain student transcript information relating to the agency's two-year academic degree program for Air Force enlisted members.

5. Department of the Army, Agency-wide, (N1-AU-03-22, 1 item, 1 temporary item). Master files associated with an electronic information system used to track basic human resource information from multiple sources. Data includes names, social security numbers, addresses, promotions, and assignments.

6. Department of Defense, Defense Finance and Accounting Service (N1-507-06-1, 2 items, 2 temporary items). Records relating to property management and the acquiring, building, or discontinuance of real property. Included are such records as receipts, vouchers, forms, work orders, and completion reports.

7. Department of Homeland Security, U.S. Citizenship and Immigration Services (N1-566-06-1, 6 items, 6 temporary items). Inputs, outputs, master files, documentation, and electronic mail and word processing copies associated with an electronic information system used to track files relating to persons who are not a citizen or national of the United States.

8. Department of Housing and Urban Development, Office of Multifamily Housing (N1-207-06-2, 14 items, 12 temporary items). Inputs, outputs, master files, and documentation associated with an electronic information system used to collect and maintain tenant data and payment history of all project-based subsidy contracts for multifamily housing projects. Proposed for permanent retention are master files and documentation relating to tenant data. This schedule authorizes the agency to apply the proposed disposition instructions to any recordkeeping medium.

9. Department of the Interior, Office of the Secretary (N1-48-05-11, 18 items, 14 temporary items). Records of the Office of Congressional and Legislative Affairs including daily legislative summary files, confirmation files, congressional and legislative files prepared for and promulgated on the agency's public Web site, White House legislative reports, and congressional request or discovery document production files. Also included are electronic copies of records created using electronic mail and word processing applications. Proposed for permanent retention are recordkeeping copies of legislative history files in electronic and paper formats along with an electronic tracking system for those files.

10. Department of the Interior, Office of the Secretary (N1-48-05-12, 11 items, 7 temporary items). Records relating to the Take Pride in America program including files relating to nominees not selected for awards, media notebook files, copies of event photographs already approved as permanent as part of the Secretary's historical photograph collection, and routine correspondence with the public and supporters of the program. Also included are electronic copies of records created using electronic mail and word processing applications. Proposed for permanent retention are recordkeeping copies of awards files, promotional materials files, public Web site records, and program history files.

11. Department of the Interior, Office of the Secretary (N1-48-06-1, 23 items, 19 temporary items). Records created and maintained by the Appraisal Services Directorate of the National Business Center. Included are such records as policy and guidance files of a routine nature, policy drafts and clearance files, appraisal request files and records associated with an electronic information system used to track real property appraisal services. Also included are compliance files, certification and training files, public Web site records, and electronic copies of records created using electronic mail and word processing applications. Proposed for permanent retention are recordkeeping copies of policy and guidance files issued by the Office of Chief Appraiser, and appraisal services case files, compliance files, and certification and training files identified as Indian Fiduciary Trust files.

12. Department of Justice, Bureau of Prisons (N1-129-06-6, 9 items, 9 temporary items). Inputs, outputs, master files, and system documentation associated with an obsolete DOS-based electronic information system and the new Web-based system used to collect and analyze background investigations of agency staff. Also included are electronic copies of records using electronic mail and word processing.

13. Department of Justice, Bureau of Prisons (N1-129-06-8, 7 items, 7 temporary items). Inputs, outputs, master files, and system documentation associated with an electronic information system used by inmates to exchange electronic messages with approved contacts.

14. Department of Justice, Bureau of Prisons (N1-129-06-9, 2 items, 2 temporary items). Staff physical fitness records consisting of respiratory-related test results and other documentation required for participation in a Disturbance Control Team. Also included are electronic copies of records created using electronic mail and word processing.

15. Department of the Navy, Naval Criminal Investigative Service (N1-NU-06-1, 1 item, 1 temporary item). Records related to inquiries or investigations into allegations of official misconduct of personnel, separate from criminal or counterintelligence investigations. This schedule reduces the retention period for recordkeeping copies of these files, which were previously approved for disposal. This schedule also authorizes the agency to apply the proposed disposition instructions to any recordkeeping medium.

16. Department of the Treasury, Bureau of Engraving and Printing (N1-318-06-2, 3 items, 3 temporary items). Operational records relating to currency production. Included are such records as product accountability and load forms, in-process inspection data, and a variety of daily printing and processing statistical reports.

17. Department of the Treasury, Bureau of Public Debt (N1-53-06-2, 5 items, 5 temporary items). Inputs, outputs, master files, documentation, and backups associated with a web site used by investors to view and manage their Treasury security holdings.

18. Nuclear Regulatory Commission, Office of Information Sources (N1-431-05-1, 2 items, 2 temporary items). Records associated with superseded electronic information system programs, master files, software, and coding.

19. Nuclear Waste Technical Review Board (N1-220-05-2, 4 items, 1 temporary item). Electronic copies of records created using electronic mail and word processing that pertain to board meeting records, executive correspondence, and publications. Proposed for permanent retention are recordkeeping copies of these files. This schedule authorizes the agency to apply the proposed disposition instructions to any recordkeeping medium.

20. Railroad Retirement Board, Office of Equal Opportunity (N1-184-06-1, 3 items, 1 temporary item). Working files including reference materials, extra copies of official files, and general administrative documents. Proposed for permanent retention are recordkeeping copies of the Director's program and policy subject files, and annual reports to agencies that provide oversight of Equal Employment Opportunity programs.

21. Small Business Administration (N1-309-05-21, 5 items, 5 temporary items). Master files, outputs, documentation, backups, and electronic mail and word processing copies associated with an electronic information system used to maintain contact and background information on the agency's lenders and partners.

Dated: May 19, 2006.
Michael J. Kurtz,
Assistant Archivist for Records Services—Washington, DC.

[FR Doc. E6-8200 Filed 5-26-06; 8:45 am]

BILLING CODE 7515-01-P